FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—05/08/2000
20002875 | CGW Southeast Partners IV, L.P | Johnston Industries, Inc | Johnston Industries, Inc.
20002896 | Genzyme Corporation | Leslie Koo | Synpac (North Carolina), Inc.
|  |  | Synpac Pharmaceuticals (U.K.), Ltd.
20002958 | Joseph Littlejohn and Levy Fund II, L.P | Fisher Holdings, Inc | Fisher Holdings, Inc.
20002959 | Unilever N.V | S. Daniel Abraham | Slim.Fast Foods Company.
|  |  | Slim.Fast Nutritional Foods, L.L.C., Sun Nutritional, Inc.
20002961 | CMGI, Inc | Primedia, Inc | Primedia, Inc.
20002962 | Primedia, Inc | CMGI, Inc | CMGI, Inc.
20002970 | MTD Products, Inc | Ryobi Limited | Ryobi Outdoor Produts, Inc.
20002976 | Bill Gross' Idealab! | eve.com, Inc | eve.com, Inc.
20002979 | InfoSpace.com, Inc | IQorder.com, Inc | IQorder.com, Inc.
20002983 | Peter J. King | Peter J. King | Sunrise International Leasing Corporation.
20002990 | Pequot Private Equity Fund II, L.P | SkyOnline, Inc | SkyOnline, Inc.
20002995 | Starmark Holdings, L.L.C | Roger S. Ralph | Four Sports, Inc.
20002997 | Morgenthaler Partners VI, L.P | Aztech Technology Partners, Inc | Copel, LLC; Fortran Corp; Mahon Communication Corporation.
20002998 | Inverness/Phoenix Partners LP | PennCorp Financial Group, Inc., debtor-in-possession | PennCorp Financial Group, Inc., debtor-in-possession.
20003011 | Arthur L. Allen | Viasoft, Inc | Viasoft, Inc.
Transactions Granted Early Termination—05/09/2000
20002933 | Cap Gemini S.A | Ernst & Young U.S. LLC | Ernst & Young U.S. LLC.
20002934 | Ernst & Young U.S. LLP | Cap Gemini S.A | Cap Gemini S.A.
20002973 | HotJobs.com, Ltd | Resumix, Inc | Resumix, Inc.
Transactions Granted Early Termination—05/10/2000
20002833 | CMGI, Inc | AdAuction.com, Inc | AdAuction.com, Inc.
20002893 | Rexam PLC | American National Can Group, Inc | American National Can Group, Inc.
20002946 | Anadarko Petroleum Corporation | Union Pacific Resources Group, Inc | Union Pacific Resources Group, Inc.
20002964 | Conseco, Inc | Fortis (B) | Ardiel Insurance Service, Inc.
|  |  | Associated California State Ins. Agencies, Inc.
20002965 | Conseco, Inc | Fortis (NL) N.V | Ardiel Insurance Service, Inc.
|  |  | Associated California State Insurance Agencies, Inc.
Transactions Granted Early Termination—05/11/2000
20002800 | Neoforma.com, Inc | Eclipsys Corporation | Eclipsys Corporation.
20002834 | Intergraph Corporation | 3Dlabs, Inc. Ltd | 3Dlabs, Inc. Ltd.
20002835 | 3Dlabs, Inc. Ltd | Intergraph Corporation | Intergraph Corporation.
20002884 | Morgan Stanley Dean Witter Capital Partners IV, L.P | Baptist Health Hospitals and Health Systems, Inc | Arizona Network Development, Inc.
|  |  | Arrowhead Community Hospital and Medical Center, Inc.
|  |  | Bethany Enterprises, Inc.
|  |  | CRV, Inc.
|  |  | Phoenix Baptist Hospital and Medical Center, Inc.
|  |  | Pleasant Properties, Inc.
20002887 | The Williams Companies, Inc | SBC Communications, Inc | SBCI-Pacific Networks, Inc.
20002905 | Paul G. Allen | Cablevision Systems Corporation | Cablevision of Michigan, Inc.
20002937 | Robert J. Gourley | HPS, Inc | HPS, Inc.
20002940 | Jay L. Wertheimer | Laguna Corporation | Laguna Corporation.
20002956 | Deutsche Lufthansa AG | William L. Walker | Bizjet International Sales and Support, Inc.
20002985 | Cecil Van Tuyl | Robert M. Kent | Kenny Kent Chevrolet, Inc.
20002988 | Westburne, Inc | Eureka Holdings, Inc | Eureka Holdings, Inc.
20002993 | The Bank of New York Company, Inc | ING Groep N.V | BHF Securities Corporation.
20002994 | Koninklijke Ahold nv | Peapod, Inc | Peapod, Inc.
20002999 | RSTW Partners III, LP | Packaging Services Incorporated | Packaging Services Incorporated.
20003013 | AutoNation, Inc | Lawrence Konieczny | Six Flags Automotive, Inc.
|  |  | Westside Automotive, Inc.
20003019 | President and Fellows of Harvard College | Randall M. Hass | T.O. Hass Holding Co., Inc.
Transactions Granted Early Termination—05/12/2000
19994584 | Allied Waste Industries, Inc | Vivendi S.A | CBF, Inc.
|  |  | Noble Road Landfill, Inc.
|  |  | Superior of Missouri, Inc.
|  |  | Superior of Ohio, Inc.
|  |  | Superior Services, Inc.
|  |  | Sycamore Landfill, Inc.
19994585 | Vivendi S.A | Allied Waste Industries, Inc | American Disposal, Inc.
|  |  | BFI Waste Systems of North America, Inc.
|  |  | County Disposal, Inc.
20002793 | Projekt Finanz Consult GmbH | A. Ahlstrom Corporation | Ahlstrom Machinery Corporation.
20002869 | Hewlett-Packard Company | Zymed, Inc | Zymed, Inc.
20002904 | Waste Connections, Inc | Allied Waste Industries, Inc | BFI Waste Systems of North America, Inc.
|  |  | Waste Connections of Kansas, Inc.
Transactions Granted Early Termination—05/15/2000
20002847 | Province Healthcare Company | New American Healthcare Corporation | NAHC of Wyoming, Inc.
20002882 | General Electric Company | Atlas Copco AB | Atlas Copco Rotoflow, Inc.
20002891 | Ashtead Group PLC | Rentokil Initial plc | BET USA, Inc.
20002899 | NewSouth Holdings, Inc | Frank B. Stewart, Jr | UniversalCom, Inc.
20002915 | Wind Point Partners IV, L.P | Northstar Health Services, Inc | Northstar Health Services, Inc.
20002953 | Credit Suisse First Boston Equity Partners, L.P | CTC Communications Group, Inc | CTC Communications Group, Inc.
20002954 | Grace Investments, Ltd | Illinois Superconductor Corporation | Illinois Superconductor Corporation.
20002977 | Fortress Investments Fund LLC | Brookdale Living Communities, Inc | Brookdale Living Communities, Inc.
20002980 | Timothy F. Corwin | Kemp Biddulph | Biddulphland, Inc.
20002987 | SGE Groupe | Michael Baker Corporation | Baker Support Services, Inc.
20003001 | Bernard & Audre Rapoport | PennCorp Financial Group, Inc., debtor-in-possession | PennCorp Financial Group, Inc., debtor-in-possession.
20003005 | Kirtland Capital Partners III L.P | Vincent A. Morano | Essex Crane, Inc.
|  |  | Essex Crane Rental Corp.
20003006 | Kirtland Capital Partners III L.P | Christopher J. Morano | Essex Crane, Inc.
|  |  | Essex Crane Rental Corp.
20003021 | The Profit Recovery Group International, Inc | EPS Solutions Corporation | TSL Services, Inc.
20003063 | Severn Trent Plc | Kevin P. Murphy | Hydra-Stop, Inc.
20003072 | Tribune Company | Hollywood.com, Inc | Hollywood.com, Inc.
20003097 | UnitedHealth Group Incorporated | ChannelPoint, Inc | ChannelPoint, Inc.
20003107 | Koninklijke Philips Electronics N.V | TriMedia Technologies, Inc | TriMedia Technologies, Inc.
Transactions Granted Early Termination—05/16/2000
20002936 | Telscape International, Inc | Pointe Communications Corporation | Pointe Communications Corporation.
20002967 | Ledcor, Inc | GlobeNet Communications Group Limited | GlobeNet Communications Group Limited.
20002969 | TSG Capital Fund III L.P | Telscape International, Inc | Telscape International, Inc.
20002989 | Solectron Corporation | Nortel Networks Corporation | Nortel Networks Corporation.
20003008 | Jerome Seydoux | Ivex Packaging Corporation | Ultra Pac, Inc.
20003010 | Babcock International Group PLC | Calvin Bamford, Jr | Globe Acquisition Corp. d/b/a Burelbach Industries Corp.
|  |  | Globe International, Inc.
|  |  | Globe Machine Manufacturing Company.
20003012 | Thyssen Krupp AG | Linda E. Moore | Stahl Specialty Company.
Transactions Granted Early Termination—05/17/2000
20002981 | International Paper Company | Champion International Corporation | Champion International Corporation.
20003014 | Cablevision Systems Corporation | Chum Limited | MuchMusic USA Venture.
20003016 | NEC Corporation | Newco | Newco.
20003017 | Mitsubishi Electric Corporation | Newco | Newco.
20003023 | Calpine Corporation | Den norske stats oljeselskap a.s | Statoil Energy Power, Inc., and Celtic Power Corporation.
20003026 | Bechtel Group, Inc | Madison Dearborn Capital Partners III, L.P | @Link Holdings, Inc.
20003035 | John Hancock Financial Services, Inc | MCN Energy Group, Inc | COBISA-Person Limited Partnership.
20003039 | Oak Hill Capital Partners, L.P | GATX Corporation | GATX Corporation.
20003049 | Vedior NV | Acsys, Inc | Acsys, Inc.
20003051 | Cecil Van Tuyl | The Estate of Abram Misle, Deceased | Park Place Chevrolet & Imports, Inc.
|  |  | Park Place Pontiac-Cadillac-GMC, Inc.
20003053 | Dr. Otto Happel | Sumner M. Redstone | WF Cinema Holdings, L.P.
20003054 | Dr. Otto Happel | Time Warner, Inc | WF Cinema Holdings, L.P.
20003058 | Meritor Automotive, Inc | Arvin Industries, Inc | Arvin Industries, Inc.
20003059 | Arvin Industries, Inc | Meritor Automotive, Inc | Meritor Automotive, Inc.
20003061 | Westvaco Corporation | IMPAC Group, Inc | IMPAC Group, Inc.
20003064 | Bill Gross' Idealab! | PayMyBills.com, Inc | PayMyBills.com, Inc.
20003070 | Safeway, Inc | GroceryWorks.com, Inc | GroceryWorks.com, Inc.
20003073 | Novell, Inc | CMGI, Inc | CMGion, Inc.
20003075 | Robert Andy | Carl M. and Marie T. Bouckaert | Epsilon Products Company.
Transactions Granted Early Termination—05/18/2000
20002984 | Interdean Group Limited | Interconex, Inc | Interconex, Inc.
20003020 | Peninsular and Oriental Steam Navigation Company | Texas Freezer Company, Inc | Texas Freezer Company, Inc.
20003048 | Telia A.B | Apex Global Information Services, Inc | Apex Global Information Services, Inc.
20003055 | World Access, Inc | Joseph D. Fail | Prime TEC International, Inc.
20003069 | Informa Group plc | The BISYS Group, Inc | BISYS Research Services, Inc.
20003080 | Galen Holdings PLC | Duke University | Applied Clinical Concepts, Inc.
|  |  | Duke Clinical Research Institute.
20003081 | Professor Kurt Jenny | Dr. Helmut List | AVL Medical Instruments AG.
20003083 | ABRY Broadcast Partners III, L.P | Kelso Investment Associates V, L.P | Cygnus Business Media Holdings, Inc.
20003084 | TCV III (Q), L.P | eLoyalty Corporation | eLoyalty Corporation.
20003086 | Nortrax, Inc | Donald Neidetcher | METCO.
20003087 | Nortrax, Inc | Roger N. Michaud | METCO.
20003089 | Nortrax, Inc | K.C. Canary-Clifton Park, Inc | K.C. Canary-Clifton Park, Inc.
20003090 | CSR Limited | Leppert Concrete Products, LLC | Leppert Concrete Products, LLC.
20003091 | St. Ives plc | Joseph H. Weiss | Packard Press, Inc.
20003092 | VS&A Communications Partners II, L.P | Third Millennium Communications, Inc | Third Millennium Communications, Inc.
20003095 | REMEC, Inc | SkyOnline, Inc | SkyOnline, Inc.
20003100 | MGC Communications, Inc | Primary Network Holdings, Inc | Primary Network Holdings, Inc.
20003109 | Heywood Williams Group PLC | Fastec Industrial Corp | Fastec Industrial Corp.
20003119 | Hicks, Muse, Tate & Furst Equity Fund III, L.P | Top Line Electronics Corporation | Top Line Electronics Corporation.
20003120 | Illinois PCS, LLC | Sprint Corporation | Sprint Spectrum L.P., Sprint Spectrum Equipment Co., L.P.
Transactions Granted Early Termination—05/19/2000
20001681 | Healtheon/WebMD Corporation | Quintiles Transnational Corp. | ENVOY Corporation.
20001682 | Quintiles Transnational Corp | Healtheon/WebMD Corporation | Healtheon/WebMD Corporation.
20003050 | ING Groep N.V | Acsys, Inc | Acsys, Inc.

For Further Information Contact: Sandra M. Peay or Parcellena P. Fielding, Contact Representatives, Federal Trade Commission, Premerger Notification Office, Bureau of Competition, Room 303, Washington, DC 20580, (202) 326-3100.

By direction of the Commission.
Donald S. Clark,
Secretary.

[FR Doc. 00-14450 Filed 6-7-00; 8:45 am]

BILLING CODE 6750-01-M